ENVIRONMENTAL PROTECTION AGENCY

[SFUND-2004-0002, FRL-7655-5]

National Oil and Hazardous Substance Pollution Contingency Plan (NCP) Information Collection Request Renewal, EPA ICR Number 1463.05, OMB Control Number 2050-0096

AGENCY: Environmental Protection Agency (EPA).

ACTION: Notice.

SUMMARY: In compliance with the Paperwork Reduction Act (44 U.S.C. 3501 et seq.), this document announces that EPA is planning to submit a continuing Information Collection Request (ICR) to the Office of Management and Budget (OMB). This is a request to renew an existing approved collection: ICR 1463.05. This ICR is scheduled to expire on October 31, 2004. Before submitting the ICR to OMB for review and approval, EPA is soliciting comments on specific aspects of the proposed information collection as described below. ICR 1463.05 addresses the portion of the NCP that details the requirements for remedial activities at sites on the National Priority List (Superfund Sites). The NCP is the rule that stipulates requirements for fulfilling the legislative mandates of the Comprehensive Environmental Response, Compensation, and Liability Act of 1980 as amended (CERCLA or Superfund). The information collected via these activities is critical to characterizing contamination at sites, determining appropriate remedies and goals for cleanup, and involving the community in the process. All of these steps help ensure that some of the nation's worst hazardous waste sites are cleaned up in a manner that is protective of human health and the environment, and, where practical, returned to productive use.

DATES: Comments must be received on or before June 29, 2004.

ADDRESSES: Submit your comments, identified by Docket ID No. SFUND-2004-0002, by one of the following methods:

• Federal eRulemaking Portal: http://www.regulations.gov. Follow the on-line instructions for submitting comments.

• Agency Website: http://www.epa.gov/edocket. EDOCKET, EPA's electronic public docket and comment system, is EPA's preferred method for receiving comments. Follow the on-line instructions for submitting comments.

• E-mail: superfund.docket@epa.gov.

• Mail: EPA Docket Center, Environmental Protection Agency, Superfund Docket, Mail Code 5202T, 1200 Pennsylvania Ave., NW., Washington, DC 20460.

• Hand Delivery: Superfund Docket, EPA West B107, 1301 Constitution Ave., NW., Washington, DC 20460 (phone #: 202-566-0276). Such deliveries are only accepted during the Docket's normal hours of operation (M-F, 8:30 a.m.-4:30 p.m.), and special arrangements should be made for deliveries of boxed information.

Instructions: Direct your comments to Docket ID No. SFUND-2004-0002. EPA's policy is that all comments received will be included in the public docket without change and may be made available online at http://www.epa.gov/edocket, including any personal information provided, unless the comment includes information claimed to be Confidential Business Information (CBI) or other information whose disclosure is restricted by statute. Do not submit information that you consider to be CBI or otherwise protected through EDOCKET, www.regulations.gov, or e-mail. The EPA EDOCKET and the federal www.regulations.gov websites are “anonymous access” systems, which means EPA will not know your identity or contact information unless you provide it in the body of your comment. If you send an e-mail comment directly to EPA without going through EDOCKET or www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit EDOCKET on-line or see the Federal Register of May 31, 2002 (67 FR 38102).

Docket: All documents in the docket are listed in the EDOCKET index at http://www.epa.gov/edocket. Although listed in the index, some information is not publicly available, i.e., CBI or other information whose disclosure is restricted by statute. Certain other material, such as copyrighted material, is not placed on the Internet and will be publicly available only in hard copy form. Publicly available docket materials are available either electronically in EDOCKET or in hard copy at the Superfund Docket, EPA West B107, 1301 Constitution Ave. NW., Washington, DC 20460. This Docket Facility is open from 8:30 a.m.-4:30 p.m., Monday through Friday, excluding legal holidays. The Docket telephone number is 202-566-0276.

FOR FURTHER INFORMATION CONTACT: Marisa Guarinello, Assessment and Remediation Division, Office of Superfund Remediation and Technology Innovation (Mail Code 5204G), Environmental Protection Agency, 1200 Pennsylvania Ave., NW., Washington, DC 20460; telephone number: 703-603-9028; fax number: 703-603-9100; e-mail address: guarinello.marisa@epa.gov.

SUPPLEMENTARY INFORMATION:

I. General Information

A. Does This Action Apply to Me?

Entities potentially affected by this action are State/Tribal governments and individual community members who voluntarily participate in the remedial phase of the Superfund program and in associated community involvement activities throughout the Superfund process.

B. What Should I Consider as I Prepare My Comments for EPA?

Tips for Preparing Your Comments. When submitting comments, remember to:

i. Identify the rulemaking by docket number and other identifying information (subject heading, Federal Register date and page number).

ii. Explain why you agree or disagree; suggest alternatives and substitute language for your requested changes.

iii. Describe any assumptions and provide any technical information and/or data that you used.

iv. If you estimate potential costs or burdens, explain how you arrived at your estimate in sufficient detail to allow for it to be reproduced.

v. Provide specific examples to illustrate your concerns, and suggest alternatives.

vi. Explain your views as clearly as possible, avoiding the use of profanity or personal threats.

vii. Make sure to submit your comments by the comment period deadline identified.

II. Abstract

This Information Collection Request is a renewal ICR that covers the remedial portion of the Superfund Program, as specified in the Comprehensive Environmental Response, Compensation, and Liability Act of 1980 as amended (CERCLA) and the National Oil and Hazardous Substance Pollution Contingency Plan (NCP). All remedial actions covered by this ICR (e.g., Remedial Investigations/Feasibility Studies) are stipulated in the statute (CERCLA) and are instrumental in the process of cleaning up National Priority List (NPL) sites to be protective of human health and the environment. Some community involvement activities covered by this ICR are not required at every site (e.g., Technical Assistance Grants) and depend very much on the community and the nature of the site and cleanup. All community activities seek to involve the public in the cleanup of the sites, gain the input of community members, and include the community's perspective on the potential future reuse of Superfund NPL sites. Community involvement activities can enhance the remedial process and increase community acceptance and the potential for productive and useful reuse of the sites.

The respondents on whom a burden is placed include State (and Tribal) governments and communities. Potential Responsible Parties (PRPs) are not addressed in this ICR because the Paperwork Reduction Act [5 CFR Part 1320 (Controlling Paperwork Burdens on the Public, FRN 8/29/1995) Sect. 1320.4 (a)] does not require the inclusion of those entities that are the subject of administrative or civil action by the Agency. The ICR reports the estimated reporting and record-keeping burden hours and costs expected to be incurred by these entities and by the Federal government in its oversight capacities of State action and administration of community activities at Fund-lead NPL sites. Remedial activities undertaken by States at NPL sites are those required and recommended by CERCLA and the NCP and the cost of many of these activities may be reimbursed by the Federal government. All community involvement in the remedial process of Superfund is voluntary. Therefore, all cost estimates for community members is speculative and does not represent expenditure of actual dollars.

The number of active Superfund sites is assumed to be approximately 500 over the three year period covered by this ICR. For the purposes of the ICR, active sites are defined as those in the pre-Construction Complete stages of the remedial process. These sites may fall into any of the following categories “studies pending, study or design underway, construction underway.” Activities completed in each respective stage include the Remedial Investigation/Feasibility Study (RI/FS), the Remedial Design (RD), and the Remedial Action (RA). Programmatic data reveals that over the history of the Superfund Program approximately 20% of activities conducted in the pre-Construction Complete stages were done at State-lead sites. Therefore, the ICR assumes that there are 100 active Superfund sites in which the State is the lead agency and 400 sites in which the Federal government (EPA) is the lead agency.

States have responsibilities at new and on-going State-lead sites and at all State-lead, Federal-lead, and Federal Facility sites entering the remedial phase of Superfund. Based on information in the Superfund database, it has been estimated that in each year covered by the 3 year period of this ICR there will be 2 new State-lead, 10 new Federal-lead, and 33 new Federal Facility sites entering the remedial phase. The State is responsible for identifying all Applicable or Relevant and Appropriate Requirements (ARARs) at all 45 new sites each year (NCP: 40 CFR § 300.400 (g)). All other remedial activities taken by the State are done so at sites at which the State voluntarily assumes the lead agency role. Over each year of this ICR the State will be completing remedial activities at sites that entered the remedial phase of Superfund at different times. Past data and planned completion dates from the Superfund database were used to estimate the number of sites for which the State is responsible for each activity. It is anticipated that each year of the ICR period the State will complete an RI/FS at 2 sites, a Proposed Plan at 4 sites, a Record of Decision (ROD) at 4 sites, maintain the Administrative Record at 100 sites, complete an Initial Community Involvement Plan (CIP) at 2 sites, revise the CIP at 20 sites, issue an average of 4 Fact Sheets for each of 100 sites, conduct 4 focus group sessions at 1 site, and organize a community workshop at 2 sites.

Community members' participation in remedial activities at Superfund sites is purely voluntary and the level of involvement varies greatly depending on the complexity of the site, its location (urban vs. rural, industrial vs. residential, etc.), and the level of interest. Much of the information used for estimates in this section were provided by a group of EPA Community Involvement employees, including Regional Community Involvement Managers, Headquarters staff, and Technical Assistance Grant (TAG) Coordinators. It is estimated that: 40 people will be interviewed for the development of the CIP at 12 Federal and State-lead Superfund sites entering the remedial phase each year; 25 people will be interviewed for the revision of the CIP at 100 on-going Federal and State-lead sites; 15 people will participate in 4 focus groups at each of 5 sites; 50 people will participate in a workshop at each of 10 sites; 15 community groups will be awarded a TAG; 120 community groups will manage an existing TAG; and 800 people will complete a short satisfaction survey at 5 sites.

An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement

Burden hours and costs have been estimated for all recordkeeping and reporting activities taken by the respondents as described in the Abstract. Information was gathered from a Superfund database that contains information about completed activities and those that are planned, Superfund contract records, the Office of Personnel Management, the Bureau of Labor Statistics, EPA staff, and the 2001 edition of the ICR. Further details as to the methods used and assumptions made in estimating burden hours and costs will be provided in the ICR Supporting Statement that accompanies Form OMB 83-1, which is submitted to the Office of Management and Budget. Detailed cost and burden breakdown tables will also be provided in the Supporting Statement.

The total estimated annual burden hours placed on State governments for all remedial activities is 40,185 (120,555 for the total 3 yr. ICR period). The total estimated annual costs, much of which may be reimbursable by the Federal government, placed on State governments is $2,813,455 ($8,440,365 for the total 3 yr. ICR period). This estimate includes the costs of labor, printing and distribution of materials, contractor services, supplies, and equipment. The total estimated annual burden hours placed on communities is 28,730 (86,190 for the total 3 yr. ICR period). The total estimated annual costs, all of which reflects speculative labor costs as community members engage in all activities on a voluntary basis, placed on communities is $459,680 ($1,379,040 for the 3 yr. ICR period).

The ICR covers an array of activities that may occur at various discrete points in time or periodically throughout the entire Superfund remedial process. Therefore, the number of likely respondents per Superfund site in both the State and community categories will vary by site depending on its position in the remedial process, the lead agency, and the level of community involvement warranted. Additionally, the frequency of response to all activities covered by the ICR can only be described as occurring when required to meet CERCLA requirements and the needs of the Superfund site and the community.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: April 22, 2004.
Chuck H. Suftin,
Acting Office Director, Office of Superfund Remediation and Technology Innovation.

[FR Doc. 04-9872 Filed 4-29-04; 8:45 am]

BILLING CODE 6560-50-P